DEPARTMENT OF AGRICULTURE

Agricultural Marketing Service

[Doc. No. TB-03-08]

Flue-Cured Tobacco Advisory Committee; Open Meeting

AGENCY: Agricultural Marketing Service, USDA.

ACTION: Notice of advisory committee meeting.

SUMMARY: In accordance with the Federal Advisory Committee Act (5 U.S.C. App.) announcement is made of a forthcoming meeting of the Flue-Cured Tobacco Advisory Committee.

DATES: The meeting will be held on June 12, 2003, at 1 p.m.

ADDRESSES: The meeting will be held at the United States Department of Agriculture (USDA), Agricultural Marketing Service (AMS), Tobacco Programs, Flue-Cured Tobacco Cooperative Stabilization Corporation Building, Room 223, 1306 Annapolis Drive, Raleigh, North Carolina 27608.

FOR FURTHER INFORMATION CONTACT: John P. Duncan III, Deputy Administrator, Tobacco Programs, AMS, USDA, STOP 0280, 1400 Independence Avenue, SW., Washington, DC 20250-0280, telephone number (202) 205-0567 or fax (202) 205-0235.

SUPPLEMENTARY INFORMATION: The purpose of the meeting is to elect officers, recommend opening dates and selling schedules, and discuss other related issues for the 2003 flue-cured tobacco marketing season.

The meeting is open to the public. Persons, other than members, who wish to address the Committee at the meeting should contact John P. Duncan III, Deputy Administrator, Tobacco Programs, AMS, USDA, STOP 0280, 1400 Independence Avenue, SW., Washington, D.C. 20250-0280, prior to the meeting. Written statements may be submitted to the Committee before, at or after the meeting. If you need any accommodations to participate in the meeting, please contact the Tobacco Programs at (202) 205-0567 by June 6, 2003, and inform us of your needs.

Dated: May 23, 2003.
A.J. Yates,
Administrator, Agricultural Marketing Service.

[FR Doc. 03-13522 Filed 5-29-03; 8:45 am]

BILLING CODE 3410-02-P